FEDERAL COMMUNICATIONS COMMISSION

Deletion of Items From Sunshine Act Meeting

September 29, 2016.

The following consent agenda has been deleted from the list of items scheduled for consideration at the Thursday, September 29, 2016, Open Meeting and previously listed in the Commission's Notice of September 22, 2016. The item remains on circulation and the sunshine period prohibition in 47 CFR 1.1203 will remain in effect until further notice.

4 | MEDIA | TITLE: Expanding Consumers' Video Navigation Choices (MB Docket No. 16-42); Commercial Availability of Navigation Devices (CS Docket No. 97-80).
|  | SUMMARY: The Commission will consider a Report and Order that modernizes the Commission's rules to allow consumers to use a device of their choosing to access multichannel video programming instead of leasing devices from their cable or satellite providers.

* * * * *

Consent Agenda

The following Consent Agenda items have been deleted from the list of items scheduled for consideration at the Thursday, September 29, 2016, Open Meeting and previously listed in the Commission's Notice of September 22, 2016. Items 6 and 7 have been adopted by the Commission.

1 | ENFORCEMENT | TITLE: Enforcement Bureau Action.
|  | SUMMARY: The Commission will consider an enforcement action.
2 | ENFORCEMENT | TITLE: Enforcement Bureau Action.
|  | SUMMARY: The Commission will consider an enforcement action.
3 | ENFORCEMENT | TITLE: Enforcement Bureau Action.
|  | SUMMARY: The Commission will consider an enforcement action.
4 | ENFORCEMENT | TITLE: Enforcement Bureau Action.
|  | SUMMARY: The Commission will consider an enforcement action.
6 | MEDIA | TITLE: Powell Meredith Communications Company, Application for Modification to Low Power Television Station KBFY-LP, Fortuna, Arizona.
|  | SUMMARY: The Commission will consider a Memorandum Opinion and Order concerning the Application for Review filed by PMCC.
7 | MEDIA | TITLE: Bernard Dallas LLC, Assignor, and ACM Dallas V LLC, Assignee, Applications for Assignment of Licenses for KFCD(AM), Farmersville, Texas, and KHSE(AM), Wylie, Texas, and ACM Dallas V LLC, Assignor, and Hammond Broadcasting, LLC, Assignee, Application for Assignment of License for KHSE(AM), Wylie, Texas.
|  | SUMMARY: The Commission will consider a Memorandum Opinion and Order concerning an Application for Review of the Media Bureau's grant of license assignment applications.

Federal Communications Commission.
Marlene H. Dortch,
Secretary.

[FR Doc. 2016-24276 Filed 10-4-16; 11:15 am]

BILLING CODE 6712-01-P